FEDERAL COMMUNICATIONS COMMISSION

Notice of Public Information Collection(s) Being Submitted for Review to the Office of Management and Budget

October 7, 2008.

SUMMARY: The Federal Communications Commission, as part of its continuing effort to reduce paperwork burden invites the general public and other Federal agencies to take this opportunity to comment on the following information collection(s), as required by the Paperwork Reduction Act (PRA) of 1995, 44 U.S.C. 3501-3520. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before December 15, 2008. If you anticipate that you will be submitting PRA comments, but find it difficult to do so within the period of time allowed by this notice, you should advise the FCC contact listed below as soon as possible.

ADDRESSES: Direct all PRA comments to Nicholas A. Fraser, Office of Management and Budget, (202) 395-5887, or via fax at 202-395-5167 or via internet at Nicholas_A._Fraser@omb.eop.gov and to Judith-B.Herman@fcc.gov, Federal Communications Commission, or an e-mail to PRA@fcc.gov. To view a copy of this information collection request (ICR) submitted to OMB: (1) Go to the Web page http://www.reginfo.gov/public/do/PRAMain, (2) look for the section of the Web page called “Currently Under Review”, (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the title of this ICR (or its OMB Control Number, if there is one) and then click on the ICR Reference Number to view detailed information about this ICR.

FOR FURTHER INFORMATION CONTACT: For additional information, contact Judith B. Herman at 202-418-0214 or via the Internet at Judith-B.Herman@fcc.gov.

SUPPLEMENTARY INFORMATION: OMB Control Number: 3060-0329.

Title: Section 2.955, Equipment Authorization—Verification (Retention of Records).

Form No.: N/A.

Type of Review: Extension of a currently approved collection.

Respondents: Business or other for-profit; not-for-profit institutions, and state, local or tribal government.

Number of Respondents: 5,655 respondents; 5,655 responses.

Estimated Time Per Response: 18 hours.

Frequency of Response: On occasion and one-time reporting requirements, recordkeeping requirement and third party disclosure requirement.

Obligation to Respond: Required to obtain or retain benefits.

Total Annual Burden: 101,790 hours.

Total Annual Cost: $1,131,000.

Privacy Act Impact Assessment: N/A.

Nature and Extent of Confidentiality: Commission rules require equipment testing to determine performance and compliance with FCC rules and standards. This testing is typically done by independent testing laboratories whose measurement facility has been reviewed by the Commission, or by an accrediting organization recognized by the Commission. The Commission believes that the independent testing laboratories and accrediting organizations endeavor to protect any propriety, patents and/or trade secrets, related to RF equipment devices they test. The Commission, itself, may also provide a guarantee of confidentiality for information collected, if the request for confidentiality meets the requirements of 47 CFR 0.457(d) and a request for confidential treatment is submitted in accordance with 47 CFR 0.457.

Needs and Uses: The Commission will submit this information collection to the Office of Management and Budget (OMB) after this 60 day comment period in order to obtain the full three year clearance from them. The Commission is requesting an extension (no change in reporting, recordkeeping and/or third party disclosure requirements) and there is no change in the estimated annual hourly burden or the annual cost burden.

The Commission rules in 47 CFR parts 15 and 18 require manufacturers of radio frequency (RF) equipment devices to gather and retain technical data on their equipment to verify compliance with established technical standards for each device operated under the applicable rule part. Testing and verification aid in controlling potential harmful interference to radio communications. The information may be used to determine that the equipment marketed complies with the applicable Commission rules and that the operation of the equipment is consistent with the initially documented test results. The information collected and used is essential to controlling potential interference to radio communications.

OMB Control Number: 3060-1042.

Title: Request for Technical Support—Help Request Form.

Form No.: N/A—Electronic only.

Type of Review: Revision of a currently approved collection.

Respondents: Individuals or households, business or other for-profit; not-for-profit institutions, and state, local or tribal government.

Number of Respondents: 42,300 respondents; 42,300 responses.

Estimated Time Per Response: 8-10 minutes (.133 hours.)

Frequency of Response: On occasion reporting requirement and recordkeeping requirement.

Obligation to Respond: Voluntary. There is no statutory authority for this information collection. The Commission developed this information collection (IC) on its own motion to assist users of the Universal Licensing System (US) or other electronic FCC systems.

Total Annual Burden: 5,640 hours.

Total Annual Cost: $569,640.

Privacy Act Impact Assessment: Yes. The FCC has a system of records notice, FCC/WTB-7, “Remedy Action Request System (RARS)” to cover personally identifiable information effected by these information collection requirements. At this time, the FCC is required to complete a Privacy Act Impact Assessment.

Nature and Extent of Confidentiality: Submission of the electronic form is voluntary. In general there is no need for confidentiality. On a case-by-case basis, the Commission may be required to withhold from disclosure certain information about the location, character, or ownership of a historic property, including traditional religious sites.

Needs and Uses: The Commission will submit this information collection to the Office of Management and Budget (OMB) after this 60 day comment period in order to obtain the full three year clearance from them. The Commission is requesting a revision; with an increase in the number of respondents/responses; burden hours and annual costs.

We are streamlining this collection to improve the quality of information provided by the respondents. The revised form uses a wizard design in which applicants select the type of inquiry they are submitting and then provide data relevant to that on-line system. The form is also being expanded to facilitate the collection of information regarding problems customers are having with the FCC Web site. This results in incomplete submissions and an additional burden is being placed on both the public customer and the FCC staff.

The FCC's Wireless Telecommunications Bureau (WTB) maintains Internet software used by the public to apply for licenses, participate in auctions for spectrum, and maintain license information. In this mission, FCC has created a “help desk” that answers questions/inquiries to these systems as well as resetting and/or issuing the Web site https://esupport.fcc.gov/request.htm/ under this OMB control number (displayed above). This form will continue to substantially decrease public and FCC staff burden since all the information needed to a support request will be submitted in a standardized format but be available to a wider audience. This eliminates or at least minimizes the need to follow-up with public customers to obtain all the information necessary to respond to their request. This form also presorts requests into previously defined categories to appropriate FCC staff to respond in a timelier manner.

Federal Communications Commission.
Marlene H. Dortch,
Secretary.

[FR Doc. E8-24605 Filed 10-15-08; 8:45 am]

BILLING CODE 6712-01-P